DEPARTMENT OF HEALTH AND HUMAN SERVICES

National Institutes of Health

Center for Scientific Review; Amended Notice of Meeting

Notice is hereby given of a change in the meeting of the Innate Immunity and Inflammation Study Section, October 13, 2022, 9:00 a.m. to October 14, 2022, 6:00 p.m., National Institutes of Health, Rockledge II, 6701 Rockledge Drive, Bethesda, ND 20892 which was published in the Federal Register on September 12, 2022, 87 FRN 316099.

This Meeting is being amended to change the contact person from Shahrooz Vahedi to Kenneth Izumi, Ph.D., Center for Scientific Review, National Institute of Health, 6701 Rockledge Drive, Bethesda, MD, 301-496-6980. The meeting is closed to the public.

Dated: September 26, 2022.
Miguelina Perez,
Program Analyst, Office of Federal Advisory Committee Policy.

[FR Doc. 2022-21265 Filed 9-29-22; 8:45 am]

BILLING CODE 4140-01-P